DEPARTMENT OF THE INTERIOR

Minerals Management Service

Outer Continental Shelf (OCS), Western and Central Gulf of Mexico, Oil and Gas Lease Sales for Years 2007-2012

AGENCY: Minerals Management Service (MMS), Interior.

ACTION: Notice of Availability (NOA) of the Draft Environmental Impact Statement and Public Hearings.

SUMMARY: The Minerals Management Service (MMS) has prepared a draft environmental impact statement (EIS) on tentatively scheduled 2007-2012 oil and gas leasing proposals in the Western and Central Gulf of Mexico (GOM), off the States of Texas, Louisiana, Mississippi, and Alabama.

Authority: The NOA and notice of public hearings is published pursuant to the regulations (40 CFR 1501.7) implementing the provisions of the National Environmental Policy Act (NEPA) of 1969 as amended (42 U.S.C. 4321 et seq. (1988)).

SUPPLEMENTARY INFORMATION: Federal regulations allow for several proposals to be analyzed in one EIS (40 CFR 1502.4). Since each sale proposal and projected activities are very similar each year for each sale area, the MMS has prepared a single EIS (multisale EIS) for the five Western and six Central GOM lease sales scheduled for 2007-2012 in the draft proposed OCS Oil and Gas Leasing Program: 2007-2012. The multisale approach is intended to focus the NEPA process for individual sales on the differences between the proposed sales and on new issues and information. The multisale EIS will eliminate the repetitive issuance of complete draft and final EIS's for each sale area. The resource estimates and scenario information for the EIS analyses will be presented as a range that would encompass the resources and activities estimated for any of the eleven proposed lease sales. Although this EIS addresses eleven proposed lease sales, at the completion of this EIS process, decisions will be made only for proposed Lease Sale 204 in the Western Planning Area (WPA), and proposed Lease Sale 205 in the Central Planning Area (CPA). Subsequent to these first sales, a NEPA review will be conducted for each of the other proposed lease sales in the 2007-2012 Leasing Program. Formal consultation with other Federal agencies, the affected states, and the public will be carried out to assist in the determination of whether or not the information and analyses in the original multisale EIS are still valid. These consultations and NEPA reviews will be completed before decisions are made on the subsequent sales.

EIS Availability: To obtain a single, printed or CD-ROM copy of the draft EIS, you may contact the Minerals Management Service, Gulf of Mexico OCS Region, Public Information Office (MS 5034), 1201 Elmwood Park Boulevard, Room 114, New Orleans, Louisiana 70123-2394 (1-800-200-GULF). An electronic copy of the draft EIS is available at the MMS's Internet Web site at http://www.gomr.mms.gov/homepg/regulate/environ/nepa/nepaprocess.html. Several libraries along the Gulf Coast have been sent copies of the draft EIS. To find out which libraries, and their locations, have copies of the draft EIS for review, you may contact the MMS's Public Information Office or visit the MMS Internet Web site at http://www.gomr.mms.gov/homepg/regulate/environ/libraries.html.

Public Hearings: The MMS will hold public hearings to receive comments on the draft EIS. The public hearings are scheduled as follows:

• December 5, 2006, Wyndham Greenspoint, 12400 Greenspoint Drive, Houston, Texas, 1 p.m.

• December 5, 2006, Riverview Plaza Hotel, 64 South Water Street, Mobile, Alabama, 7 p.m.

• December 6, 2006, Hampton Inn and Suites New Orleans-Elmwood, 5150 Mounes Street, Harahan, Louisiana, 1 p.m.

• December 6, 2006, Florida, Marriott Bay Point Resort, 4000 Marriott Drive, Panama City, Florida, 7 p.m.

• December 7, 2006, Larose Civic Center, Larose Regional Park, Larose, Louisiana, 7 p.m.

If you wish to testify at a hearing, you should register one hour prior to the meeting. Each hearing will briefly recess when all speakers have had an opportunity to testify. If there are no additional speakers, the hearing will adjourn immediately after the recess. Written statements submitted at a hearing will be considered part of the hearing record. If you are unable to attend the hearings, you may submit written statements.

Comments: Federal, State, local government agencies, and other interested parties are requested to send their written comments on the draft EIS in one of the following three ways:

1. Electronically using MMS's new Public Connect on-line commenting system at https://ocsconnect.mms.gov. This is the preferred method for commenting. From the Public Connect “Welcome” screen, search for “WPA and CPA Multisale EIS 2007-2012” or select it from the “Projects Open for Comment” menu.

2. In written form enclosed in an envelope labeled “Comments on the Multisale EIS” and mailed (or hand carried) to the Regional Supervisor, Leasing and Environment (MS 5410), Minerals Management Service, Gulf of Mexico OCS Region, 1201 Elmwood Park Boulevard, New Orleans, Louisiana 70123-2394.

3. Electronically to the MMS e-mail address: environment@mms.gov. Comments should be submitted no later than 45 days from the publication of this NOA.

FOR FURTHER INFORMATION CONTACT: Minerals Management Service, Mr. Dennis Chew, Gulf of Mexico OCS Region, 1201 Elmwood Park Boulevard, New Orleans, Louisiana 70123-2394, (504) 736-2793.

Dated: November 6, 2006.
Robert P. LaBelle,
Acting Associate Director for, Offshore Minerals Management.

[FR Doc. E6-19486 Filed 11-16-06; 8:45 am]

BILLING CODE 4310-MR-P